DEPARTMENT OF HOMELAND SECURITY

Office of the Secretary

Removing Designated Countries From the National Security Entry-Exit Registration System (NSEERS)

AGENCY: Office of the Secretary, DHS.

ACTION: Notice.

SUMMARY: The Department of Homeland Security (DHS) is eliminating redundant programs by removing the following countries from, and relieving nonimmigrant nationals or citizens of the following countries from compliance with, the special registration procedures under the National Security Entry-Exit Registration System (NSEERS): Afghanistan, Algeria, Bahrain, Bangladesh, Egypt, Eritrea, Indonesia, Iran, Iraq, Jordan, Kuwait, Lebanon, Libya, Morocco, North Korea, Oman, Pakistan, Qatar, Saudi Arabia, Somalia, Sudan, Syria, Tunisia, United Arab Emirates, and Yemen. Over the past six years, the Department of Homeland Security (DHS) has implemented several new automated systems that capture arrival and exit information on nonimmigrant travelers to the United States, and DHS has determined that recapturing this data manually when a nonimmigrant is seeking admission to the United States is redundant and no longer provides any increase in security. DHS, therefore, has determined that it is no longer necessary to subject nationals from these countries to special registration procedures, and this notice deletes all currently designated countries from NSEERS compliance.

DATES: Effective Date: This notice is effective April 28, 2011.

FOR FURTHER INFORMATION CONTACT: Raphael Henry, Program Manager, U.S. Customs and Border Protection, Department of Homeland Security, Washington, DC 20229, telephone (202) 344-1438 (not a toll-free number).

SUPPLEMENTARY INFORMATION: The Department of Justice created the National Security Entry-Exit Registration System (NSEERS) in 2002 pursuant to sections 262(a) and 263(a) of the Immigration and Nationality Act (INA), 8 U.S.C. 1302(a) and 1303(a), to provide the Federal government with records of the arrival and departure of nonimmigrant aliens from specific countries designated by the Attorney General.¹ The NSEERS regulations require nonimmigrant aliens who are nationals or citizens of countries designated by the Secretary of Homeland Security, upon consultation with the Secretary of State, to comply with special registration requirements, including providing fingerprints, a photograph, and any additional information required by DHS to DHS officials at the time the nonimmigrant applies for admission at a U.S. port of entry. 8 CFR 264.1(f)(3). Countries are designated for NSEERS by notice published in the Federal Register. 8 CFR 264.1(f)(2). Nonimmigrants subject to NSEERS requirements also may be required to appear at a U.S. Immigration and Customs Enforcement office in person to verify information by providing additional information or to provide documentation confirming compliance with the conditions of their status and admission. Id. Finally, such nonimmigrants are required to depart through specified ports to record their departures from the United States. 8 CFR 264.1(f)(8)(i).

¹ See 67 FR 40581 (June 13, 2002) (proposed rule); 67 FR 52584 (Aug. 12, 2002) (final rule). The functions of the former Immigration and Naturalization Service, including NSEERS, were transferred to DHS in 2003. See Homeland Security Act of 2002 (HSA), Public Law 107-296, tit. XV, sec. 1517, 116 Stat. 2135, 2311, 6 U.S.C. 557 (transfer of regulatory authority).

Pursuant to prior designations, nonimmigrant nationals or citizens of the following countries currently must comply with NSEERS requirements: Afghanistan, Algeria, Bahrain, Bangladesh, Egypt, Eritrea, Indonesia, Iran, Iraq, Jordan, Kuwait, Lebanon, Libya, Morocco, North Korea, Oman, Pakistan, Qatar, Saudi Arabia, Somalia, Sudan, Syria, Tunisia, United Arab Emirates, and Yemen. See, e.g., 67 FR 67766 (Nov. 6, 2002); 67 FR 70526 (Nov. 22, 2002); 67 FR 77642 (Dec. 18, 2002); 68 FR 2363 (Jan. 16, 2003).

Since its establishment in 2003, DHS has developed substantial infrastructure and adopted more universally applicable means to verify the entry and exit of aliens into and out of the United States. Improved intelligence exchange between the United States and other countries has further informed DHS's understanding of the threat posed to the United States by international terrorism. Based on global and individualized intelligence, DHS has refined its approach to identifying aliens posing a threat to the nation and applied these techniques to foreign national non-immigrants generally. As threats to the United States evolve, DHS seeks to identify specific individuals and actions that pose specific threats, rather than focusing on more general designations of groups of individuals, such as country of origin.

DHS has implemented and improved the data systems that support individualized determinations of admissibility. DHS established the United States Visitor and Immigrant Status Indicator Technology Program (“US-VISIT”), in January 2004, to record the arrival and departure of aliens; verify aliens' identities; and authenticate and biometrically compare travel documents issued to non-U.S. citizens by DHS and the Department of State. Under U.S.-VISIT requirements, most aliens seeking admission to the United States must provide finger scans and a digital photograph upon entry to the United States at U.S. ports of entry. 8 CFR 235.1(f)(1).

DHS also currently requires the collection and electronic transmission to U.S. Customs and Border Protection (CBP) of manifest information for passengers and crew members entering and departing the United States by air or sea. Commercial air carriers departing foreign destinations for the United States or departing the United States for a foreign destination are required to transmit passenger manifests electronically to CBP's Advance Passenger Information System (APIS) within strict time limits as prescribed by regulation. 19 CFR 122.49a, 122.49b, 122.75a, 122.75b. Vessels departing from foreign ports for the United States or departing from the United States for a foreign port must provide passenger and crew manifest data within strict time limits as prescribed by regulation. 19 CFR 4.7b; 4.64(b). DHS recently implemented APIS requirements for private aircraft arriving in or departing from the United States. 19 CFR 122.22, 122.26, 122.31.

In light of the development of and improvements to the Department's information collection systems and international information sharing agreements, the Secretary has determined that subjecting nationals from designated countries to a special registration process that manually recaptures data already collected through automated systems is redundant and does not provide any increase in security.

After careful consideration, the Secretary of Homeland Security, by this notice, is removing all currently designated countries from the listing of countries whose nationals and citizens are required to comply with NSEERS registration requirements: Afghanistan, Algeria, Bahrain, Bangladesh, Egypt, Eritrea, Indonesia, Iran, Iraq, Jordan, Kuwait, Lebanon, Libya, Morocco, North Korea, Oman, Pakistan, Qatar, Saudi Arabia, Somalia, Sudan, Syria, Tunisia, United Arab Emirates, and Yemen. Effective upon publication of this Notice, nonimmigrant nationals and citizens of these countries are no longer required to comply with the requirements of 8 CFR 264.1(f), including the requirement that they exit through designated ports of entry. Accordingly, nationals and citizens from these countries are no longer subject to the NSEERS registration requirement. Accordingly, DHS will no longer register aliens under NSEERS effective on April 28, 2011. This notice does not relieve any alien of any other requirement under the law.

Janet Napolitano,
Secretary.

[FR Doc. 2011-10305 Filed 4-27-11; 8:45 am]

BILLING CODE 9110-06-P